DEPARTMENT OF HEALTH AND HUMAN SERVICES

Food and Drug Administration

[Docket No. 02D-0199]

Advertisements for High-Intensity Mercury Vapor Discharge Lamps; Revocation of Compliance Policy Guide 7133.13; Correction

AGENCY: Food and Drug Administration, HHS.

ACTION: Notice; correction.

SUMMARY: The Food and Drug Administration (FDA) is correcting a notice that appeared in the Federal Register of May 21, 2002 (67 FR 35826). The document revokes the Compliance Policy Guide (CPG) entitled “Sec. 391.100 Advertisement Literature for High-Intensity Mercury Vapor Discharge Lamps (CPG 7133.13).”

FOR FURTHER INFORMATION CONTACT: Doris B. Tucker, Office of Policy, Planning, and Legislation (HF-27), Food and Drug Administration, 5600 Fishers Lane, Rockville, MD 20857, 301-827-7010.

SUPPLEMENTARY INFORMATION: In FR Doc. 02-12623, appearing on page 35826 in the Federal Register of Tuesday, May 21, 2002, the following correction is made:

1. On page 35827, in the first column, the DATES section is corrected to read “DATES: This revocation is effective June 20, 2002.”

Dated: June 18, 2002.
Deborah D. Ralston,
Acting Associate Commissioner for Regulatory Affairs.

[FR Doc. 02-15955 Filed 6-24-02; 8:45 am]

BILLING CODE 4160-01-S